DEPARTMENT OF THE TREASURY

Submission for OMB Review; Comment Request

November 10, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before December 16, 2009 to be assured of consideration.

Internal Revenue Service (IRS)

OMB Number: 1545-1593.

Type of Review: Extension.

Title: U.S. Income Tax Return for Qualified Funeral Trusts.

Form: 1041-QFT.

Description: IRC section 685 allows the trustee of a qualified funeral trust to elect to report and pay the tax for the trust. Data is used to determine that the trustee filed the proper return and paid the correct tax.

Respondents: Businesses or other for-profits.

Estimated Total Burden Hours: 270,150 hours.

OMB Number: 1545-0130.

Type of Review: Revision.

Title: U.S. Income Tax Return for an S Corporation.

Form: 1120S, Schedule D (Form 1120S), Schedule K-1 (Form 1120S), and Schedule M-3 (Form 1120S).

Description: Form 1120S, Schedule D (Form 1120S), Schedule K-1 (Form 1120S), and Schedule M-3 (Form 1120S) are used by an S corporation to figure its tax liability, and income and other tax-related information to pass through to its shareholders. Schedule K-1 is used to report to shareholders their share of the corporation's income, deductions, credits, etc. IRS uses the information to determine the correct tax for the S corporation and its shareholders.

Respondents: Businesses or other for-profits.

Estimated Total Burden Hours: 420,945,980 hours.

OMB Number: 1545-0192.

Type of Review: Revision.

Title: Tax on Accumulation Distribution of Trusts.

Form: 4970.

Description: Form 4970 is used by a beneficiary of a domestic or foreign trust to compute the tax adjustment attributable to an accumulation distribution. The form is used to verify whether the correct tax has been paid on the accumulation distribution.

Respondents: Individuals or households.

Estimated Total Burden Hours: 42,900 hours.

OMB Number: 1545-0935.

Type of Review: Revision.

Title: U.S. Income Tax Return of a Foreign Sales Corporations; Schedule P, Transfer Price or Commission.

Form: 1120-FSC, Schedule P (Form 1120-FSC).

Description: Form 1120-FSC is filed by foreign corporations that have elected to be FSCs or small FSCs. The FSC uses Form 1120-FSC to report income and expenses and to figure its tax liability. IRS uses Form 1120-FSC and Schedule P (Form 1120-FSC) to determine whether the FSC has correctly reported its income and expenses and figured its tax liability correctly.

Respondents: Businesses or other for-profits.

Estimated Total Burden Hours: 1,088,250 hours.

OMB Number: 1545-0956.

Type of Review: Revision.

Title: Annual Return of One-Participant (Owners and Their Spouses) Retirement Plan.

Form: 5500-EZ.

Description: Form 5500-EZ is an annual return filed by a one-participant or one-participant and spouse pension plan. The IRS uses this data to determine if the plan appears to be operating properly as required under the law or whether the plan should be audited.

Respondents: Businesses or other for-profits.

Estimated Total Burden Hours: 7,005,000 hours.

OMB Number: 1545-1359.

Type of Review: Extension.

Title: Information Reporting by Passport and Permanent Residence Applicants INTL-978-86 (NPRM).

Description: The regulation requires applicants for passports and permanent residence status to report certain tax information on the applications. The regulations are intended to give the Service notice of non-filers and of persons with foreign source income not subject to normal withholding, and to notify such persons of their duty to file U.S. tax returns.

Respondents: Individuals or households.

Estimated Total Burden Hours: 750,000 hours.

OMB Number: 1545-1432.

Type of Review: Extension.

Title: Voluntary Customer Surveys to Implement E.O. 12862 Coordinated by the Corporate Planning and Performance Division on Behalf of All IRS Operations Functions.

Description: This is a generic clearance for an undefined number of customer satisfaction and opinion surveys and focus group interviews to be conducted over the next three years. Surveys and focus groups conducted under the generic clearance are used by the Internal Revenue Service to determine levels of customer satisfaction as well as determining issues that contribute to customer burden. This information will be used to make quality improvements to products and services.

Respondents: Businesses or other for-profits.

Estimated Total Burden Hours: 150,000 hours.

OMB Number: 1545-1964.

Type of Review: Revision.

Title: Intake/Interview & Quality Review Sheet.

Form: 13614-C, 13614-C (SP).

Description: The SPEC function developed the Form 13614-C, Intake/Interview & Quality Review Sheet that contains a standardized list of required intake and quality review questions to guide volunteers in asking taxpayers basic questions about themselves and conducting a quality review of the completed return. The intake/interview and quality review sheet is an effective tool for ensuring critical taxpayer information is obtained and applied during the interview and completion of the tax return process.

Respondents: Individuals or Households.

Estimated Total Burden Hours: 562,583 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-27446 Filed 11-13-09; 8:45 am]

BILLING CODE 4830-01-P